DEPARTMENT OF DEFENSE

Office of the Secretary

[Docket ID DoD-2014-OS-0104]

Privacy Act of 1974; System of Records

AGENCY: Office of the Secretary of Defense, DoD.

ACTION: Notice to alter a System of Records.

SUMMARY: The Office of the Secretary of Defense proposes to alter a system of records, WUSU 07, entitled “USUHS Grievance Records”, in its inventory of record systems subject to the Privacy Act of 1974, as amended. This system will be used to track, analyze and mitigate informal grievances filed by Uniformed Services University employees covered by a collective bargaining agreement. Utilizing this information allows Uniformed Services University civilian personnel employer relations officers to track grievances, to analyze findings from an investigation, and to research the success and/or failure of mitigation efforts. The information is collected and used by Civilian Personnel Employee Relations Officers.

DATES: Comments will be accepted on or before August 11, 2014. This proposed action will be effective the date following the end of the comment period unless comments are received which result in a contrary determination.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Cindy Allard, Chief, OSD/JS Privacy Office, Freedom of Information Directorate, Washington Headquarters Service, 1155 Defense Pentagon, Washington, DC 20301-1155, or by phone at (571) 372-0461.

SUPPLEMENTARY INFORMATION: The Office of the Secretary of Defense notices for systems of records subject to the Privacy Act of 1974 (5 U.S.C. 552a), as amended, have been published in the Federal Register and are available from the address in FOR FURTHER INFORMATION CONTACT or at the Defense Privacy and Civil Liberties Office Web site at http://dpclo.defense.gov/.

The proposed system report, as required by U.S.C. 552a(r) of the Privacy Act of 1974, as amended, was submitted on June 27, 2014, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: July 7, 2014.
Aaron Siegel,
Alternate OSD Federal Register Liaison Officer, Department of Defense.

WUSU 07

System name: USUHS Grievance Records (June 8, 2010, 75 FR 32416).

Changes:

* * * * *

Categories of individuals covered by the system:

Delete entry and replace with “Employees of the Uniformed Services University of the Health Sciences that have submitted grievances.”

Categories of records in the system:

Delete entry and replace with “Name, title, series, grade, department and name of representative, if any. Also, all documents related to the alleged grievance, including statements of witnesses, reports of interviews and hearings, examiners findings and recommendations, a copy of the original and final decisions, and related correspondence and exhibits.”

Authority for maintenance of the system:

Delete entry and replace with “5 U.S.C. 7121, Grievance Procedures; and DoD Instruction 1400.25-V771, DoD Civilian Personnel Management System (Administrative Grievance System).”

Purpose(s):

Delete entry and replace with “To track, analyze and mitigate informal grievances filed by Uniformed Services University employees covered by a collective bargaining agreement. Utilizing this information allows Uniformed Services University civilian personnel employer relations officers to track grievances, to analyze findings from an investigation, and to research the success and/or failure of mitigation efforts. The information is collected and used by Civilian Personnel Employee Relations Officers.”

Routine uses of records maintained in the system, including categories of users and the purposes of such uses:

Delete entry and replace with “In addition to those disclosures generally permitted under 5 U.S.C. 552a(b) of the Privacy Act of 1974, as amended, the records contained herein may specifically be disclosed outside the DoD as a routine use pursuant to 5 U.S.C. 552a(b)(3).

The DoD Blanket Routine Uses set forth at the beginning of the Office of the Secretary of Defense (OSD) compilation of the systems of record notices may apply to this system.”

* * * * *

Retrievability:

Delete entry and replace with “Individual's first and last name.”

* * * * *

Retention and disposal:

Delete entry and replace with “Grievance records/files are disposed of four years after the case is closed.”

System manager(s) and address:

Delete entry and replace with “Chief, Workforce Relation Division, Uniformed Services University of the Health Sciences, 4301 Jones Bridge Road, Bethesda, MD 20814-4712.”

Notification procedure:

Delete entry and replace with “Individuals seeking to determine whether information about themselves is contained in this system should address written inquiries to the Chief, Workforce Relations Division, Civilian Human Resources Directorate, Uniformed Services University of the Health Sciences, 4301 Jones Bridge Road, Bethesda, MD 20814-4712.

Signed, written requests should contain the full name, address and the signature of the subject individual.”

Record access procedures:

Delete entry and replace with “Individuals seeking access to information about themselves contained in this system should address written inquiries to the Office of the Secretary of Defense/Joint Staff, Freedom of Information Act Requester Service Center, Office of Freedom of Information, 1155 Defense Pentagon, Washington, DC 20301-1155.

Signed, written requests should contain the full name, address and the signature of the subject individual.”

* * * * *

Record source categories:

Delete entry and replace with “Individual on whom the record is maintained; testimony of witnesses; agency officials; and related correspondence from organizations or persons.”

* * * * *

[FR Doc. 2014-16186 Filed 7-10-14; 8:45 am]

BILLING CODE 5001-06-P